DEPARTMENT OF HEALTH AND HUMAN SERVICES

Administration for Children and Families

Submission for OMB Review; Comment Request

Title: ANA Project Impact Assessment Survey.

OMB No.: 0970-0379.

Description: The information collected by the Project Impact Assessment Survey is needed for two main reasons: (1) To collect crucial information required to report on the Administration for Native Americans' (ANA) established Government Performance and Results Act (GPRA) measures, and (2) to properly abide by ANA's congressionally-mandated statute (42 United States Code 2991 et seq.) found within the Native American Programs Act of 1974, as amended, which states that ANA will evaluate projects assisted through ANA grant dollars “including evaluations that describe and measure the impact of such projects, their effectiveness in achieving stated goals, their impact on related programs, and their structure and mechanisms for delivery of services.” The information collected with this survey will fulfill ANA's statutory requirement and will also serve as an important planning and performance tool for ANA.

The ANA Project Impact Assessment Survey, previously approved under information collection number OMB CN: 0970-0379, expires on 7/31/2013. This notice is issued to support ANA's continued use of the survey, with minor changes to eliminate duplication of reporting and improve the clarity and content of questions. These minor changes will not result in additional reporting burden on ANA grantees.

Respondents: Tribal Governments, Native American nonprofit organizations, and Tribal Colleges and Universities.

Annual Burden Estimates
Instrument | Number of respondents | Number of responses per respondent | Average burden hours per response | Total burden hours
ANA Project Impact Assessment Survey | 85 | 1 | 6 | 510

Estimated Total Annual Burden Hours: 510.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV. Attn: Desk Officer for the Administration for Children and Families.

Robert Sargis,
Reports Clearance Officer.

[FR Doc. 2013-10252 Filed 4-30-13; 8:45 am]

BILLING CODE 4184-01-P